DEPARTMENT OF TRANSPORTATION

Federal Highway Administration

Notice of Final Federal Agency Actions on Proposed Highway in Vermont

AGENCY: Federal Highway Administration (FHWA), DOT.

ACTION: Notice of limitation on claims for judicial review of actions by FHWA.

SUMMARY: This notice announces actions taken by the FHWA that are final within the meaning of 23 U.S.C.139(l)(1). The actions relate to a proposed highway project, the Middlebury Bridge and Rail Project on Main Street and Merchants Row over the Vermont Western Rail Corridor in the Town of Middlebury, Addison County, Vermont. Those actions grant approvals for the project.

DATES: By this notice, the FHWA is advising the public of final agency actions subject to 23 U.S.C. 139(l)(1). A claim seeking judicial review of the Federal agency actions on the highway project will be barred unless the claim is filed on or before January 12, 2018. If the Federal law that authorizes judicial review of a claim provides a time period of less than 150 days for filing such claim, then that shorter time period still applies.

FOR FURTHER INFORMATION CONTACT: For FHWA: Mr. Kenneth R. Sikora, Jr., Environmental Program Manager, Federal Highway Administration, 87 State Street, Room 216, Montpelier, Vermont 05602; telephone: (802) 828-4573; email: Kenneth.Sikora@dot.gov. The FHWA Vermont Division Office's normal business hours are 8:00 a.m. to 4:30 p.m. (eastern time). For the Vermont Agency of Transportation: Mr. Wayne Symonds, Project Supervisor, Vermont Agency of Transportation, One National Life Drive, Montpelier, Vermont 05633; telephone: (808) 828-0055; email: Wayne.Symonds@vermont.gov. The Vermont Agency of Transportation's normal business hours are 7:45 a.m. to 4:30 p.m. (eastern time).

SUPPLEMENTARY INFORMATION: Notice is hereby given that the FHWA, has taken final agency actions subject to 23 U.S.C. 139(l)(1) by issuing approvals for the following highway project in the State of Vermont: The Middlebury Bridge and Rail Project, Federal-aid Project Number WCRS(23), in the Town of Middlebury, Addison County. The project provides for the replacement of Bridges No. 102 and No. 2, carrying Vermont Route 30/Town Highway 2 (Main Street) and Town Highway 8 (Merchants Row) respectively, over the Vermont Western Rail Corridor (VWRC) railroad track in downtown Middlebury. The bridges will be replaced by constructing a single tunnel to carry the railroad under both Main Street and Merchants Row. The general purposes of the project are to improve safety, address the deteriorated conditions that have developed at both bridges, and to meet current roadway and railroad design standards. Because of the foreseeable need to provide for increased rail height during the design life of the structure, the project includes lowering the grade of the railroad for approximately 3,600 feet along the rail corridor. The actions by the Federal agencies, and the laws under which such actions were taken, are described in the Revised Environmental Assessment (REA) for the project, approved on July 21, 2017, in the FHWA Finding of No Significant Impact (FONSI) issued on July 21, 2017, and/or in other documents in the FHWA project files. The REA, FONSI, and other project records are available by contacting the FHWA or the Vermont Agency of Transportation at the addresses provided above. The FHWA REA and FONSI can also be viewed and downloaded from the project Web site at http://vtrans.vermont.gov/projects/middlebury/environmental-assessment-individual-chapters.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Land: Section 4(f) of the Department of Transportation Act of 1966 [49 U.S.C. 303].

3. Wildlife: Endangered Species Act [16 U.S.C. 1531-1544 and Section 1536], Fish and Wildlife Coordination Act [16 U.S.C. 661-667(d)].

4. Historic and Cultural Resources: Section 106 of the National Historic Preservation Act of 1966, as amended [16 U.S.C. 470(f) et seq.].

5. Executive Orders: E.O. 11990, Protection of Wetlands; E.O. 11988, Floodplain Management; E.O. 12898, Federal Actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Issued on: August 4, 2017.
Kenneth R. Sikora, Jr.,
Environmental Program Manager, Montpelier, Vermont.

[FR Doc. 2017-16975 Filed 8-14-17; 8:45 am]

BILLING CODE 4910-RY-P